DEPARTMENT OF ENERGY

Federal Energy Regulatory Commission

Combined Notice of Filings

Take notice that the Commission has received the following Natural Gas Pipeline Rate and Refund Report filings:

Docket Number: PR21-41-000.

Applicants: EasTrans, LLC.

Description: Tariff filing per 284.123(b),(e)/: EasTrans SOC 5.0.0 Cashout Amendment to be effective 3/8/2021 under PR21-41.

Filed Date: 4/7/2021.

Accession Number: 202104075119.

Comments/Protests Due: 5 p.m. ET 4/28/2021.

Docket Number: PR21-42-000.

Applicants: Columbia Gas of Ohio, Inc.

Description: Tariff filing per 284.123(b),(e)/: COH Rates effective March 30, 2021 to be effective 3/30/2021.

Filed Date: 4/9/2021.

Accession Number: 202104095262.

Comments/Protests Due: 5 p.m. ET 4/30/2021.

Docket Number: PR21-43-000.

Applicants: Valley Crossing Pipeline, LLC.

Description: Tariff filing per 284.123(b),(e)/: Valley Crossing SOC Contact Person Update to be effective 4/14/2021 under PR21-43.

Filed Date: 4/9/2021.

Accession Number: 202104095275.

Comments/Protests Due: 5 p.m. ET 4/30/2021.

Docket Numbers: RP21-702-001.

Applicants: Natural Gas Pipeline Company of America.

Description: Tariff Amendment: Amendment Filing to a Negotiated Rate Agreement—Sempra Gas & Power to be effective 4/1/2021.

Filed Date: 4/8/21.

Accession Number: 20210408-5290.

Comments Due: 5 p.m. ET 4/20/21.

Docket Numbers: RP21-730-000.

Applicants: Guardian Pipeline, L.L.C.

Description: § 4(d) Rate Filing: Updated Negotiated Rate PAL Agreements—February 2021 to be effective 5/10/2021.

Filed Date: 4/9/21.

Accession Number: 20210409-5065.

Comments Due: 5 p.m. ET 4/21/21.

Docket Numbers: RP21-731-000.

Applicants: Columbia Gas Transmission, LLC.

Description: § 4(d) Rate Filing: April 9 21 Neg Rate Agmts to be effective 4/9/2021.

Filed Date: 4/9/21.

Accession Number: 20210409-5085.

Comments Due: 5 p.m. ET 4/21/21.

Docket Numbers: RP21-732-000.

Applicants: Natural Gas Pipeline Company of America.

Description: § 4(d) Rate Filing: Negotiated Rate Agreements Filing—Macquarie Energy to be effective 4/10/2021.

Filed Date: 4/9/21.

Accession Number: 20210409-5140.

Comments Due: 5 p.m. ET 4/21/21.

Docket Numbers: RP21-733-000.

Applicants: Rockies Express Pipeline LLC.

Description: § 4(d) Rate Filing: REX 2021-04-09 Administrative Changes to be effective 5/10/2021.

Filed Date: 4/9/21.

Accession Number: 20210409-5188.

Comments Due: 5 p.m. ET 4/21/21.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2021.
Nathaniel J. Davis, Sr.,
Deputy Secretary.

[FR Doc. 2021-07983 Filed 4-16-21; 8:45 am]

BILLING CODE 6717-01-P